DEPARTMENT OF DEFENSE

Office of the Secretary

Notice of Environmental Assessment and Finding of No Significant Impact Related to the Pulsed Fast Neutron Analysis Cargo Inspection System Test Facility at the Ysleta Port of Entry Commercial Cargo Facility, El Paso, Texas

AGENCY: Counterdrug Technology Development Program Office (CTDPO), Department of Defense (DoD).

ACTION: Notice of Environmental Assessment and Finding of No Significant Impact.

SUMMARY: The Counterdrug Technology Development Program Office (CTDPO) is considering the construction of a Pulsed Fast Neutron Analysis (PENA) Cargo Inspection System Test Facility at the Ysleta Port of Entry Commercial Cargo Facility, El Paso, Texas and has prepared an Environmental Assessment in support of this action. Based upon the Environmental Assessment, the Department of Defense has concluded that a Finding of No Significant Impact is appropriate, and therefore an Environmental Impact Statement is unnecessary.

FOR FURTHER INFORMATION CONTACT: Dr. Stephen Haimbach, Department of Defense, Counterdrug Technology Development Program Office, Naval Surface Warfare Center, 17320 Dahlgren Road, Dahlgren, Virginia 22448-5100; telephone (540) 653-2374 or e-mail PFNAmail@dodcounterdrug.com.

SUPPLEMENTARY INFORMATION: In its counter-terrorism and counter-drug efforts, the Federal Government has invested considerable resources into developing technologies for detecting explosives, narcotics or other contraband hidden among the freight imported into the United States. Radiation-based, non-intrusive inspection systems, such as X-ray and gamma ray, have been in use for several years by Federal Government agencies. A related technology, called Pulsed Fast Neutron Analysis (PFNA), was developed several years ago for cargo inspection. PFNA is designed to directly and automatically detect and measure the presence of specific materials, such as cocaine or explosives, which may have been hidden within the vehicle. PFNA technology uses pulses of neutrons as the radiation source to non-intrusively examine packages and containers for suspect materials. While PFNA has been successfully demonstrated in a laboratory setting, it has yet to be tested in an operational environment.

The Department of Defense in cooperation with the United States Bureau of Customs and Border Protection and the Transportation Security Administration plans to conduct a six-month operational test of a PFNA system at the Ysleta/Zaragosa Border Station in Ysleta, Texas. Ysleta is next to the Rio Grande River just southeast of the city of El Paso. Ysleta was selected as the test location principally because it had space available (no additional land purchase was required) and sufficient commercial traffic.

The test facility will consist of an inspection building (approximately 220 feet by 60 feet) housing the PFNA equipment and several smaller structures for electronic equipment and operators.

The Environmental Assessment is available for public viewing by accessing the following Internet address: http://www.scainc.biz/EA.

Dated: August 12, 2003.
Patricia L. Toppings,
Alternate OSD Federal Register Liaison Officer, Department of Defense.

[FR Doc. 03-21161 Filed 8-18-03; 8:45 am]

BILLING CODE 5001-08-M